DEPARTMENT OF ENERGY

Federal Energy Regulatory Commission

[Docket No. AD24-12-000]

Energy Efficiency Resource Participation in RTO/ISO Markets; Notice of Request for Technical Conference

Take notice that on August 29, 2024, a Coalition of nine organizations, pursuant to Rule 207 of the Commission's Rules of Practice and Procedure, 18 CFR 385.207 (2023), filed a petition requesting that the Commission hold a technical conference to explore the future role, participation, and eligibility of energy efficiency in FERC-jurisdictional wholesale markets.

Comments on this filing are due by October 7, 2024.

In addition to publishing the full text of this document in the Federal Register, the Commission provides all interested persons an opportunity to view and/or print the contents of this document via the internet through the Commission's Home Page (http://www.ferc.gov) using the “eLibrary” link. Enter the docket number excluding the last three digits in the docket number field to access the document.

This filing is accessible on-line at http://www.ferc.gov, using the “eLibrary” link. There is an “eSubscription” link on the website that enables subscribers to receive email notification when a document is added to a subscribed docket(s). For assistance with any FERC Online service, please email FERCOnlineSupport@ferc.gov, or call (866) 208-3676 (toll free). For TTY, call (202) 502-8659.

Dated: September 5, 2024.
Debbie-Anne A. Reese,
Acting Secretary.

[FR Doc. 2024-20585 Filed 9-10-24; 8:45 am]

BILLING CODE 6717-01-P